DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

DATE AND TIME: September 23, 2021, 10:00 a.m.

PLACE: Open to the public via audio Webcast only.¹

¹ Join FERC online to listen live at http://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1082nd Meeting—Open Meeting
[September 23, 2021,10:00 a.m.]
Item No. | Docket No. | Company
ADMINISTRATIVE
A-1 | AD21-1-000 | Agency Administrative Matters.
A-2 | AD21-2-000 | Customer Matters, Reliability, Security and Market Operations.
A-3 | AD21-18-000 | 2021 Cold Weather Event in Texas and the South Central U.S.
ELECTRIC
E-1 | ER21-1111-002 | Alabama Power Company.
| ER21-1112-002 | Dominion Energy South Carolina, Inc.
| ER21-1114-002 | Louisville Gas and Electric Company.
| ER21-1115-000, ER21-1115-001, ER21-1115-002 | Duke Energy Carolinas, LLC and Duke Energy Progress, LLC.
| ER21-1116-002 | Duke Energy Carolinas, LLC.
| ER21-1117-002 | Duke Energy Progress, LLC.
| ER21-1118-002 | Louisville Gas and Electric Company.
| ER21-1119-002 | Georgia Power Company.
| ER21-1120-002 | Kentucky Utilities Company.
| ER21-1121-002 | Mississippi Power Company.
| ER21-1125-000, ER21-1125-001, ER21-1125-002 | Alabama Power Company.
| ER21-1128-002 (Consolidated) | Dominion Energy South Carolina, Inc.
E-2 | EL21-47-000 | Green Development, LLC v. New England Power Company and Narragansett Electric Company.
E-3 | ER10-2881-035, ER21-184-000 | Alabama Power Company.
| ER10-2882-036 | Southern Power Company.
| ER10-2883-034 | Mississippi Power Company.
| ER10-2884-034 | Georgia Power Company.
| ER16-2509-005 | Rutherford Farm, LLC.
| ER17-2400-006 | SP Butler Solar, LLC.
| ER17-2401-006 | SP Decatur Parkway Solar, LLC.
| ER17-2403-006 | SP Pawpaw Solar, LLC.
| ER17-2404-006 | SP Sandhills Solar, LLC.
E-4 | Omitted
E-5 | ER19-391-002 | Panda Hummel Station LLC.
E-6 | ER20-1006-001 | DATC Path 15, LLC.
E-7 | ER19-13-000, ER19-1816-000, ER20-2265-000 | Pacific Gas and Electric Company.
E-8 | ER19-2462-004 | Macquarie Energy LLC.
| ER18-2264-007 | Macquarie Energy Trading LLC.
| ER10-2630-003 | NGP Blue Mountain I LLC.
| ER16-1914-003 | Patua Acquisition Company, LLC.
E-9 | EC21-87-000 | PPL Corporation and The Narragansett Electric Company.
E-10 | ER21-787-003 EL21-26-001 | ISO New England Inc. New England Power Generators Association, Inc. v. ISO New England Inc.
E-11 | ER21-2348-000 | Midcontinent Independent System Operator, Inc. and Michigan Public Power Agency.
E-12 | ER21-1965-000 | Wisconsin Electric Power Company.
E-13 | ER21-2025-000 | Tampa Electric Company.
E-14 | ER10-3078-005 | Commonwealth Chesapeake Company, LLC.
| ER10-3079-017 | Tyr Energy, LLC.
| ER19-2564-001 | Hickory Run Energy, LLC.
E-15 | ER10-2834-007 | Munnsville Wind Farm, LLC.
| ER17-1438-002 | Radford's Run Wind Farm, LLC.
| ER20-173-001 | RWE Renewables Energy Marketing, LLC.
| ER17-2056-001 | RWE Renewables O&M, LLC.
| ER10-2821-007 | Stony Creek Wind Farm, LLC.
| ER12-1329-007 | Wildcat Wind Farm I, LLC.
E-16 | ER15-2013-011 | Talen Energy Marketing, LLC.
| ER12-2510-010 | Brandon Shores LLC.
| ER15-2014-007 | Brunner Island, LLC.
| ER10-2435-018 | Camden Plant Holding, L.L.C.
| ER10-2440-013 | Dartmouth Power Associates Limited Partnership.
| ER10-2442-015 | Elmwood Park Power, LLC.
| ER12-2512-010 | H.A. Wagner LLC.
| ER19-481-003 | LMBE Project Company LLC.
| ER15-2018-006 | Martins Creek, LLC.
| ER18-2252-002 | MC Project Company LLC.
| ER10-3286-014 | Millennium Power Partners, L.P.
| ER15-2022-006 | Montour, LLC.
| ER10-3299-013 | New Athens Generating Company, LLC.
| ER10-2444-017 | Newark Bay Cogeneration Partnership, L.P.
| ER10-2446-013 | Pedricktown Cogeneration Company LP.
| ER15-2026-006 | Susquehanna Nuclear, LLC.
| ER10-2449-015 | York Generation Company LLC.
| ER19-2250-003 | TrailStone Energy Marketing, LLC.
E-17 | ER13-55-025 | Homer City Generation, L.P.
E-18 | ER20-1906-001 | Story County Wind, LLC.
E-19 | OMITTED
E-20 | EL21-62-001 | Jackson Generation, LLC v. PJM Interconnection, L.L.C.
E-21 | ER20-2271-000, ER20-2755-000 | Caithness Long Island, LLC.
| ER20-2276-000 | Moxie Freedom LLC.
MISCELLANEOUS
M-1 | RM21-20-000 | OMB Control Numbers for Commission Information Collection Requirements.
GAS
G-1 | OMITTED
G-2 | RP21-628-000 | Continental Resources, Inc. v. Northern Border Pipeline Company.
HYDRO
H-1 | P-14858-003 | McMahan Hydroelectric, LLC.
H-2 | P-2082-068 | PacifiCorp.
| P-14803-005 | Klamath River Renewal Corporation, State of Oregon, and State of California.
H-3 | P-3251-010 | Cornell University.
H-4 | P-2520-083 | Great Lakes Hydro America, LLC.
H-5 | P-13417-008 | Western Technical College and ReNew Hydro Power, LLC.
H-6 | P-935-140, P-935-147, P-2071-082, P-2071-084, P-2111-080, P-2111-082 | PacifiCorp.
| P-2213-043, P-2213-044 | Public Utility District No. 1 of Cowlitz County, Washington.
H-7 | P-2101-161 | Sacramento Municipal Utility District.
H-8 | P-12532-006 | Pine Creek Mine, LLC.
H-9 | P-14308-011 | Carbon Zero LLC and North Bennington Hydroelectric LLC.
H-10 | P-15105-000 | Solia 9 Hydroelectric, LLC.
H-11 | P-2444-037 | Northern States Power Company—Wisconsin.
H-12 | P-553-240 | The City of Seattle, Washington.
Certificates
C-1 | CP21-31-000 | Texas Eastern Transmission, LP.
C-2 | CP15-490-002 | Delfin LNG LLC.
C-3 | CP95-35-000 | EcoElectrica, L.P.

Issued: September 16, 2021.
Kimberly D. Bose,
Secretary.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2021-20484 Filed 9-17-21; 11:15 am]

BILLING CODE 6717-01-P